FEDERAL RESERVE SYSTEM

12 CFR Part 261

[Docket No. R-1481]

RIN 7100 AD-80

Rules Regarding Availability of Information

AGENCY: Board of Governors of the Federal Reserve System.

ACTION: Final rule.

SUMMARY: The Board of Governors of the Federal Reserve System (Board) published in the Federal Register of September 13, 2011, technical changes to the Board's rules regarding availability of information and other regulations that been made to account for the transfer of authority over Savings and Loans Holding Companies (SLHCs) to the Board. The publication inadvertently resulted in the omission of language in the Board's rules regarding availability of information. This document reinstates that language.

DATES: Effective February 3, 2014.

FOR FURTHER INFORMATION CONTACT: Katherine Wheatley, Associate General Counsel, (202) 452-3779.

SUPPLEMENTARY INFORMATION: The Board of Governors of the Federal Reserve System published in the Federal Register of September 13, 2011, technical changes to the Board's rules regarding availability of information and other regulations that been made to account for the transfer of authority over SLHCs to the Board. The publication inadvertently resulted in the omission of language in the Board's rules regarding the disclosure of confidential information to state financial institution supervisory agencies. This document reinstates that language.

List of Subjects in 12 CFR Part 261

Confidential business information, Freedom of information, Reporting and recordkeeping requirements.

Authority and Issuance

For the reasons stated in the Supplementary Information, 12 CFR part 261 is amended as follows.

PART 261—RULES REGARDING AVAILABILITY OF INFORMATION

1. The authority citation for part 261 continues to read as follows:

Authority: 5 U.S.C. 552; 12 U.S.C. 248(i) and (k), 321 et seq., 611 et seq., 1442, 1467a, 1817(a)(2)(A), 1817(a)(8), 1818(u) and (v), 1821(o), 1821(t), 1830, 1844, 1951 et seq., 2601, 2801 et seq., 2901 et seq., 3101 et seq., 3401 et seq.; 15 U.S.C. 77uuu(b), 78q(c)(3); 29 U.S.C. 1204; 31 U.S.C. 5301 et seq.; 42 U.S.C. 3601; 44 U.S.C. 3510.

2. In § 261.20, paragraphs (d)(1) and (2) are added to read as follows:

§ 261.20 Confidential supervisory information made available to supervised financial institutions and financial institution supervisory agencies.

* * * * *

(d) * * *

(1) A state financial institution supervisory agency having direct supervisory authority over such supervised financial institution; or

(2) A state financial institution supervisory agency not having direct supervisory authority over such supervised financial institution if the requesting agency has entered into an information sharing agreement with the appropriate Federal Reserve Bank and the information to be provided concerns a supervised financial institution that has acquired or has applied to acquire a financial institution subject to that agency's direct supervisory authority.

* * * * *

By order of the Board of Governors of the Federal Reserve System, acting through the Secretary of the Board under delegated authority, January 28, 2014.
Robert deV. Frierson,
Secretary of the Board.

[FR Doc. 2014-02116 Filed 1-31-14; 8:45 am]

BILLING CODE 6210-01-P